DEPARTMENT OF JUSTICE

National Institute of Corrections

Solicitation for a Cooperative Agreement—Support Services for Community Services Division Networks

AGENCY: National Institute of Corrections, U.S., Department of Justice.

ACTION: Solicitation for a Cooperative Agreement.

SUMMARY: The National Institute of Corrections (NIC) is soliciting proposals from organizations, groups, or individuals to enter into a cooperative agreement for an 18-month period to begin no later than September 15, 2013. Work under this cooperative agreement will provide support services to NIC Community Services Division sponsored networks. The networks are designed for NIC to assist in meeting the needs of the field of community corrections by serving defined groups of members. Each of the networks typically meets twice per fiscal year, for a total of up to ten meetings. The purpose of this cooperative agreement is for the awardee to provide specific support services to each of the network managers. Some of the potential tasks include attending network meetings to keep track of meeting minutes accurately, provide support to the network manager, prepare a summary report for the network participants, prepare a detailed report for the network manager, create a quarterly report on the “Hot Topics” from all the networks combined that may benefit the field at large, and other administrative duties relevant to each network meeting. This project will be a collaborative venture with the NIC Community Services Division.

NIC Opportunity Number: 13CS19. This number should appear in the reference line in your cover letter, on Standard Form 424 in section 11 with the title of your proposal, and in the right justified header of your proposal.

Number of Awards and Funds Available: Under this solicitation, 1 (one) award will be made. NIC is seeking the applicant's best ideas regarding accomplishment of the scope of work and the related costs for achieving the goals of this solicitation. Funds awarded under this solicitation may be used only for activities directly related to the project as described herein unless otherwise amended in writing by NIC.

Applications: All applicants must be submitted electronically via http://www.grants.gov. Hand delivered, mailed, faxed, or emailed applications will not be accepted.

DATES: Application must be submitted before midnight on Tuesday, July 30, 2013.

Authority: Public Law 93-415.

Eligibility of Applicants: An eligible applicant is any public or private agency, educational institution, organization, individual or team with expertise in the described areas.

SUPPLEMENTARY INFORMATION: Background: NIC works closely with federal, state, and local corrections agencies on a broad range of projects, from operational issues to research and innovative practices. Part of that work has included the formation of networks that promote the sharing of vital information between peers, training opportunities, and the NIC's access to key agency leaders in defining and planning future NIC work. Networks typically focus on hot topics and trends in the field and the development of evidence-based and promising practices. The NIC Community Services Division currently sponsors 5 networks: (1) Community Corrections Collaborative Network (CCCN), which has 10 members and comprises the leading associations that represent probation, parole, pretrial, and treatment professionals around the country (i.e., APPA, APAI, ICCA, NAPSA, and NAPE); (2) Executive Directors of Paroling Authorities, which comprises executives from state parole board agencies with offender release authority; (3) Executives of Probation and Parole, which has approximately 30 members and comprises executive leaders at the state agency level responsible for both probation and parole supervision; (4) Pretrial Executives Network, which has 15 members and comprises executives from some of the most established evidence-based pretrial services programs; and (5) Urban Chiefs Network, which has 15 members and comprises community corrections executives representing jurisdictions that are local and urban. The network meetings occur periodically throughout the year and are of 2 to 2.5 days in duration.

Scope of Work: The intent of this solicitation is for the awardee to provide support services to each of the NIC Community Services Division sponsored networks. Support services may include attendance at network meetings, detailed note taking, collection of supplementary materials and preparation of a summary report for distribution to network members, preparation of a final report for the network manager, and post-network meeting reports, such as policy briefs or issue papers. In providing support services to each of the networks, the applicant should be organized, flexible, and able to multitask during network meetings. The applicant should have strong writing and editing skills. It is also preferred that the applicant have experience working with executive-level staff. The applicant should also demonstrate the skills, knowledge, and expertise necessary to provide the deliverables described in this solicitation. If applicant proposes to include consultants or partnerships, the application should contain detailed justification for their inclusion. The awardee may perform some or all of the deliverables listed in this solicitation for each of the network meetings. The network managers will coordinate with the awardee prior to a network meeting and determine the deliverables that are being requested for that particular network meeting. If support services are being requested by the network manager, the awardee may be asked to provide some or all of the deliverables listed in this solicitation. The proposed budget should outline each of the services listed under the project deliverables and the cost associated with each service. The network manager will select individual services based on the need of the network manager and meeting. The network manager will then coordinate with the awardee prior to the event and ensure the awardee is clear about what services are needed for that network meeting. Upon being awarded this solicitation, the awardee will meet with the project manager to discuss the expectations of each of the network managers and provide answers to any questions pertaining to the scope of work.

Deliverables: (1) Provide support services at each of the NIC sponsored network meetings, which includes but is not limited to distributing meeting materials to network members, taking note of proceedings, producing a copy of the meeting minutes, developing an appropriately edited and formatted summary report for electronic distribution to participants and a detailed report for the network manager's use; (2) develop a quarterly bulletin of “Hot Topics” from information gathered across the network meetings. Hot topics should be taken from the agenda topics or discussions from each of the network meetings and put into a bulletin format. The bulletin will be developed in collaboration with the network managers; (3) develop other written materials as assigned, e.g., training materials to be used at conference workshops or training sessions; and (4) consult with the NIC network managers regarding special projects. Special projects may include developing a 3- to 5-page policy brief or issue paper based on the network meetings.

FOR FURTHER INFORMATION CONTACT: All technical or programmatic questions concerning this announcement should be directed to Gregory Crawford, Correctional Program Specialist, National Institute of Corrections who may be reached by email at gcrawford@bop.gov. In addition to the direct reply, all questions and responses will be posted on NIC's Web site at www.nicic.gov for public review (the names or affiliations of those submitting questions will not be posted). The Web site will be updated regularly and postings will remain on the Web site until the closing date of this cooperative agreement solicitation.

Application Requirements: Applications should be typed, double spaced, in 12-point font, and reference the project by the “NIC Opportunity Number” 13CS19 and title in this announcement, “Support Services for Community Services Division Networks.” The package must include: A cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf. Failure to supply all required forms with the application package may result in disqualification of the application from consideration.

Note: NIC will not award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified. The criteria for the evaluation of each application will be as follows:

Programmatic (40%)

Are all of the project tasks adequately discussed? Is there a clear statement of how each task will be accomplished, to include the overall project goal(s), major tasks to achieve the goal(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to complete all project tasks? Does the proposal contain project management and staffing plans that are realistic and sufficient to complete the project within the project time frame?

Project Management/Administration (25%)

Does the applicant identify reasonable objectives and/or milestones that reflect the key tasks, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.601, Training and Staff Development. You are not subject to Executive Order 12372 and should check box b under section 16.

Robert M. Brown, Jr.,
Acting Director, National Institute of Corrections.

[FR Doc. 2013-16475 Filed 7-8-13; 8:45 am]

BILLING CODE 4410-36-P